DEPARTMENT OF AGRICULTURE

Submission for OMB Review; Comment Request

March 23, 2006.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Farm Service Agency

Title: Bioenergy Program.

OMB Control Number: 0560-0207.

Summary of Collection: To encourage bioenergy producers to expand agricultural markets by promoting increased bioenergy production, the Commodity Credit Corporation (CCC), in accordance with the 2002 Act, has made incentive cash payments for FY 2003 through FY 2006 to bioenergy producers who increase their production of bioenergy (fuel grade ethanol and biodiesel) from eligible commodities over previous fiscal year bioenergy production. Bioenergy producers will enter into an agreement with CCC establishing their eligibility to receive program payments. The information will be collect by either mail or fax.

Need and Use of the Information: CCC will collect information from bioenergy producers that request payments under the Bioenergy Program to ensure the benefits are paid only to eligible bioenergy producers for eligible commodities. Failure to collect this information as outlined would make it difficult to ensure that payments to producers are made in accordance with the provisions of the regulations.

Description of Respondents: Business or other for-profit.

Number of Respondents: 100.

Frequency of Responses: Recordkeeping; Reporting: Annually; Quarterly; Other (850 multi-year).

Total Burden Hours: 1,100.

Ruth Brown,
Departmental Information Collection Clearance Officer.

[FR Doc. E6-4401 Filed 3-24-06; 8:45 am]

BILLING CODE 3410-05-P